DEPARTMENT OF LABOR

Employment and Training Administration

[TA-W-38,900]

Borg Warner Air/Fluid Systems Corporation, Water Valley, Mississippi; Notice of Affirmative Determination Regarding Application for Reconsideration

By letter of September 17, 2001, a petitioner requested administrative reconsideration of the Department of Labor's Notice of Negative Determination Regarding Eligibility to Apply for Worker Adjustment Assistance, applicable to workers of the subject firm. The denial notice was signed on June 8, 2001, and published in the Federal Register on June 27, 2001 (66 FR 34254).

The petitioner asserts that the layoffs pertaining to the original investigation are the direct result of cost cutting and the anticipated reduced orders from the subject's major customer. The petitioner further asserts that the Department of Labor reviewed the wrong sales and production period.

Conclusion

After careful review of the application, I conclude that the claim is of sufficient weight to justify reconsideration of the Department of Labor's prior decision. The application is, therefore, granted.

Signed at Washington, DC, this 29th day of October, 2001.
Edward A. Tomchick,
Director, Division of Trade Adjustment Assistance.

[FR Doc. 01-28168 Filed 11-8-01; 8:45 am]

BILLING CODE 4510-30-M